DEPARTMENT OF THE INTERIOR

Bureau of Land Management

[CA-310-1820-AE]

Notice of Resource Advisory Council Meeting

AGENCY: Bureau of Land Management, Interior, Northwest California Resource Advisory Council, Ukiah, California.

ACTION: Notice of Meeting.

SUMMARY: Pursuant to the authorities in the Federal Advisory Committees Act (Public Law 92-463) and the Federal Land Policy and Management Act (Public Law 94-579), the U.S. Bureau of Land Management's Northwest California Resource Advisory Council will meet Wednesday and Thursday, July 17 and 18, 2002, for a field tour and business meeting.

SUPPLEMENTARY INFORMATION: The meeting begins at 10 a.m. Wednesday, July 17, at the Yolo County Regional Park, 10 miles north of Rumsey, on California Highway 16. The members will depart immediately for a field tour and raft trip through parts of the BLM Cache Creek Natural Area. On Thursday, July 18, the business meeting begins at 8 a.m. in the Conference Room of the Ukiah Field Office, 2550 North State St., Ukiah. Agenda items include an update on Headwaters Forest Reserve Planning, review of the draft management plan and Environmental Impact Statement for the Cache Creek Natural Area, a status report on the BLM's vegetation management EIS, and a status report on planning for the South Spit. Time will be set aside for public comments.

Depending on the number of persons wishing to speak, a time limit may be established.

FOR ADDITIONAL INFORMATION: Contact Lynda J. Roush, BLM Arcata Field Manager, at (707) 825-2300, or Public Affairs Officer Joseph J. Fontana at (530) 252-5332.

Joseph J. Fontana,
Public Affairs Officer.

[FR Doc. 02-15203 Filed 6-14-02; 8:45 am]

BILLING CODE 4310-40-P